DEPARTMENT OF TRANSPORTATION

Federal Aviation Administration

14 CFR Part 71

[Docket No. FAA-2011-1191; Airspace Docket No. 11-ANM-21]

Amendment of Class E Airspace; Colorado Springs, CO

AGENCY: Federal Aviation Administration (FAA), DOT.

ACTION: Final rule; delay of effective date.

SUMMARY: This action delays the effective date for the amendment of Class E airspace at City of Colorado Springs Municipal Airport, Colorado Springs, CO, until September 20, 2012. The FAA is taking this action to allow additional time for processing and charting.

DATES: The effective date for final rule published February 21, 2012, at 77 FR 9840, is delayed until September 20, 2012. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue SW., Renton, WA 98057; telephone (425) 203-4537.

SUPPLEMENTARY INFORMATION:

History

On February 21, 2012, the FAA published in the Federal Register a final rule amending Class E airspace at City of Colorado Springs Municipal Airport, Colorado Springs, CO (77 FR 9840). Airspace reconfiguration is necessary due to the decommissioning of the Black Forest Tactical Air Navigation System. This rule was originally scheduled to become effective May 31, 2012; however, a need for additional internal processing requires a delay in the effective date until September 20, 2012.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends controlled airspace at City of Colorado Springs Municipal Airport, Colorado Springs, CO.

List of Subjects in 14 CFR Part 71

Airspace, Incorporation by reference, Navigation (air).

Delay of Effective Date

The effective date on Airspace Docket No. 11-ANM-21, published in the Federal Register on February 21, 2012 (77 FR 9840), is hereby delayed from May 31, 2012, to September 20, 2012.

Authority: 49 U.S.C. 106(g), 40103, 40113, 40120; E.O. 10854, 24 FR 9565, 3 CFR, 1959-1963 Comp., p. 389.

Issued in Seattle, Washington, on May 23, 2012.
John Warner,
Manager, Operations Support Group, Western Service Center.

[FR Doc. 2012-13385 Filed 5-30-12; 4:15 pm]

BILLING CODE 4910-13-P